DEPARTMENT OF HEALTH AND HUMAN SERVICES

Centers for Disease Control and Prevention

Request for Input on Vaccine Financing

AGENCY: Centers for Disease Control and Prevention (CDC), Department of Health and Human Services (DHHS).

ACTION: Notice and request for public comment.

SUMMARY: The National Vaccine Advisory Committee (NVAC) Work Group on the Introduction of New Vaccines seeks input on issues that may be barriers to the optimal implementation of new vaccines. The work group is evaluating how vaccine financing affects the standard of care for different population subgroups.

Vaccine financing can impact specific population subgroups differentially in terms of access and supply of new vaccines. The process by which the public and private sector purchase and distribute vaccines may differ in important ways. The public sector plays a major role in the financing of pediatric vaccine, but it plays a smaller role in the financing of adult vaccines. The timing of public purchase may depend on specific advisory group recommendations as well as specific state budgets. The eligibility for public and private payer programs may also vary.

We are asking partner organizations and groups to submit their items on the pluses and minuses of the current vaccine financing system. In addition to identifying potential barriers to the optimal implementation of vaccines due to vaccine financing, possible solutions to these problems are requested. The information gathered from the partners will be used as the basis for a meeting to develop options for the NVAC to consider.

DATES: Comments and information must be submitted by May 31, 2001.

ADDRESSES: Comments and information regarding Vaccine Financing should be submitted to the National Vaccine Program Office, Attn: Introduction of New Vaccines, Centers for Disease Control and Prevention, Mailstop D-66, 1600 Clifton Road, NE., Atlanta, Georgia 30333; Federal Express Address: 200 E. Ponce de Leon Avenue, Decatur, Georgia 30030; fax: 404-687-6687; e-mail: nvpo@cdc.gov.

FOR FURTHER INFORMATION CONTACT: The National Vaccine Program Office, Attn: Introduction of New Vaccines, Centers for Disease Control and Prevention, Mailstop D-66, 1600 Clifton Road, NE., Atlanta, Georgia 30333; Federal Express Address: 200 E. Ponce de Leon Avenue, Decatur, Georgia 30030; fax: 404-687-6687; e-mail: nvpo@cdc.gov.

Dated: April 27, 2001.
Joseph R. Carter,
Associate Director for Management and Operations, Centers for Disease Control and Prevention.

[FR Doc. 01-11067 Filed 5-2-01; 8:45 am]

BILLING CODE 4163-18-P